DEPARTMENT OF HOMELAND SECURITY

Federal Emergency Management Agency

44 CFR Part 61

[Docket ID FEMA-2024-0004]

RIN 1660-AB06

National Flood Insurance Program: Standard Flood Insurance Policy, Homeowner Flood Form; Extension of Comment Period

AGENCY: Federal Emergency Management Agency, Department of Homeland Security.

ACTION: Notice of proposed rulemaking; extension of comment period.

SUMMARY: The Federal Emergency Management Agency (FEMA) is extending the public comment period for its notice of proposed rulemaking published February 6, 2024. The proposed rule would revise the Standard Flood Insurance Policy by adding a new Homeowner Flood Form and five accompanying endorsements. The new Homeowner Flood Form would replace the Dwelling Form as a source of coverage for homeowners of one-to-four family residences. Together, the new Homeowner Flood Form and endorsements would more closely align with property and casualty homeowners insurance and provide increased options and coverage in a more user-friendly and comprehensible format.

DATES: Written comments on the notice of proposed rulemaking published at 89 FR 8282 (Feb. 6, 2024) may be submitted until 11:59 p.m. Eastern Time (ET) on Friday, May 31, 2024.

ADDRESSES: You may submit comments, identified by Docket ID FEMA-2024-0004, via the Federal eRulemaking Portal: http://www.regulations.gov. Follow the instructions for submitting comments.

FOR FURTHER INFORMATION CONTACT: Kelly Bronowicz, Product and Policy Development Division Director, Federal Insurance Directorate, Resilience, (202) 646-2559, FEMA-NFIP-Federal-Insurance-Policy@fema.dhs.gov.

SUPPLEMENTARY INFORMATION: On February 6, 2024, FEMA published a notice of proposed rulemaking that would revise the Standard Flood Insurance Policy (SFIP) by adding a new Homeowner Flood Form and five accompanying endorsements. This new form would replace the Dwelling Form as a source of coverage for homeowners of one-to-four family residences and would more closely align with property and casualty homeowners insurance, as well as provide increased options and coverage in a more user-friendly and comprehensible format.¹ FEMA has not substantively updated its flood insurance products—the Dwelling Form, the General Property Form, and the Residential Condominium Building Association Policy (RCBAP)—since 2000. While these products have performed ably over two decades of service, they are overdue for revision. FEMA seeks to update the SFIP to better serve a growing percentage of the public looking for ways to manage their risk through insurance. Consistent with the National Flood Insurance Act (NFIA) of 1968, FEMA must provide by regulation the general terms and conditions of insurability for properties eligible for flood insurance coverage. 42 U.S.C. 4013(a). The proposed new Homeowner Flood Form would update the general terms and conditions of insurability under the NFIP while also modifying the existing regulations and policy to make the program more effective and less burdensome for homeowner policyholders. Overall, FEMA aims to improve the homeowner policyholder experience with the NFIP through the proposed Homeowner Flood Form by simplifying coverage terms, reducing complexity, and resolving key challenges faced by homeowner policyholders.

¹ 89 FR 8282. Commenters may reference the notice of proposed rulemaking for a more fulsome description of proposed changes.

Authority: 42 U.S.C. 4001 et seq.; 6 U.S.C. 101 et seq.

Deanne Criswell,
Administrator, Federal Emergency Management Agency.

[FR Doc. 2024-07388 Filed 4-5-24; 8:45 am]

BILLING CODE 9111-52-P